DEPARTMENT OF HOMELAND SECURITY

Federal Emergency Management Agency

[Docket ID: FEMA-2014-0027; OMB No. 1660-0106]

Agency Information Collection Activities: Submission for OMB Review; Comment Request; Integrated Public Alert and Warning Systems (IPAWS) Inventory

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 9, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., 7NE, Washington, DC 20472-3100, facsimile number (202) 212-4701, or email address FEMA-Information-Collections-Management@fema.dhs.gov.

SUPPLEMENTARY INFORMATION:

Collection of Information

Title: Integrated Public Alert and Warning Systems (IPAWS) Inventory.

Type of information collection: Revision of a currently approved collection.

Form Titles and Numbers: FEMA Form 142-1-1 IPAWS Inventory.

Abstract: FEMA will be conducting an inventory, evaluation and assessment of the capabilities of Federal, State, territorial, Tribal, and local government alert and warning systems. The IPAWS Inventory and Evaluation Survey collects data to facilitate the integration of public alert and warning systems. It also reduces Federal planning cost by leveraging existing State systems.

Affected Public: State, local, or Tribal Government.

Estimated Number of Respondents: 3,200.

Estimated Total Annual Burden Hours: 6,400.

Estimated Cost: The estimated annual cost to respondents for the hour burden is $245,120.00. There are no annual costs to respondents' operations and maintenance costs for technical services. There are no annual start-up or capital costs. The cost to the Federal Government is $766,396.15.

Dated: February 2, 2015.
Charlene D. Myrthil,
Director, Records Management Division, Mission Support, Federal Emergency Management Agency, Department of Homeland Security.

[FR Doc. 2015-02458 Filed 2-5-15; 8:45 am]

BILLING CODE 9111-AB-P